DEPARTMENT OF HEALTH AND HUMAN SERVICES

National Institutes of Health

Center for Scientific Review; Amended Notice of Meeting

Notice is hereby given of a change in the meeting of the Center for Scientific Review Special Emphasis Panel, November 8, 2000, 7:30 AM to November 10, 2000, 4:00 pm, Georgetown Suites, 1111 30th Street, NW., Washington, DC, 20007 which was published in the Federal Register on November 2, 2000, 65 FR 65870-65872.

The starting time of the meeting has been changed to 7:30 pm on November 8, 2000. The meeting dates and location remain the same. The meeting is closed to the public.

Dated: November 6, 2000.
LaVerne Y. Stringfield,
Director, Office of Federal Advisory Committee Policy.

[FR Doc. 00-29147 Filed 11-14-00; 8:45 am]

BILLING CODE 4140-01-M